DEPARTMENT OF ENERGY

Federal Energy Regulatory Commission

[Docket No. RP98-40-034]

Panhandle Eastern Pipe Line Company; Notice of Refund Report

May 23, 2003.

Take notice that on May 19, 2003, Panhandle Eastern Pipe Line Company (Panhandle) tendered for filing its Refund Report. Panhandle states that it is submitting the following information:

Schedule 1 shows the status of the Non-Settling First Sellers under the Settlement. Updated interest has been calculated in accordance with Section 154.501(d) of the Commission's Regulations. Schedule 2 shows certain First Sellers refund amounts related to the Missouri Public Service Commission's (MOPSC's) election to opt-out of a portion of the Settlement.

Panhandle states that a copy of this information is being sent to intervenors in the subject proceeding, Non-Settling First Sellers, MOPSC Opt-Out First Sellers, Panhandle's affected customers, and respective State Regulatory Commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 30, 2003.

Magalie R. Salas,
Secretary.

[FR Doc. 03-13630 Filed 5-30-03; 8:45 am]

BILLING CODE 6717-01-P